AGENCY FOR INTERNATIONAL DEVELOPMENT

Bureau for Democracy, Conflict and Humanitarian Assistance, Office of Food for Peace; Announcement of Draft Public Law 480 Title II, FY 2005 Development Program Policies and Guidelines

Pursuant to the Agricultural Trade Development and Assistance Act of 1954 (Pub. L. 480, as amended), notice is hereby given that the Public Law 480 Title II FY 2005 Development Program Policies and Guidelines are being made available to interested parties for the required thirty (30) day comment period. Individuals who wish to receive a copy of these draft guidelines should contact: Office of Food for Peace, Agency for International Development, RRB 7.06-153, 1300 Pennsylvania Avenue, Washington, DC 20523. Individuals who have questions or comments on the draft guidelines should contact Kathy Hunt at the above address or at (202) 712-1446.

The thirty-day comment period will begin on the date that this announcement is published in the Federal Register.

Dated: November 3, 2003.
P.E. Balakrishnan,
Acting Director, Office of Food for Peace, Bureau for Democracy, Conflict and Humanitarian Assistance.

[FR Doc. 03-28043 Filed 11-6-03; 8:45 am]

BILLING CODE 6116-01-P